DEPARTMENT OF HOUSING AND URBAN DEVELOPMENT

[Docket No. FR-5375-N-45]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Veronica Rines, Department of the Army, Office of the Assistant Chief of Staff for Installation Management, Room 8536, 2511 Jefferson Davis Hwy., Arlington, VA 22202; (202) 601-2545; COE: Mr. Scott Whiteford, Army Corps of Engineers, Director of Real Estate, CEMP-CR, 441 G St., NW., Washington, DC 20314; (202)761-5542; GSA: Mr. Gordon Creed, Acting Deputy Assistant Commissioner, General Services Administration, Office of Property Disposal, 18th & F Streets, NW., Washington, DC 20405; (202) 501-0084; Navy: Mr. Albert Johnson, Director of Real Estate, Department of the Navy, Naval Facilities Engineering Command, Washington Navy Yard, 1330 Patterson Ave., SW., Suite 1000, Washington, DC 20374; (202) 685-9305; (These are not toll-free numbers).

Dated: November 10, 2010.
Mark R. Johnston,
Deputy Assistant Secretary for Special Needs.

TITLE V, FEDERAL SURPLUS PROPERTY PROGRAM FEDERAL REGISTER REPORT FOR 11/19/2010

Suitable/Available Properties

Building

Oregon

Residence

140 Government Road

Malheur Natl Forest

John Day OR 97845

Landholding Agency: GSA

Property Number: 54201040012

Status: Excess

GSA Number: 9-A-OR-0786-AA

Comments: 1560 sq. ft., presence of asbestos/lead paint, off-site use only

Land

California

Drill Site #3A

null

Ford City CA 93268

Landholding Agency: GSA

Property Number: 54201040004

Status: Surplus

GSA Number: 9-B-CA-1673-AG

Comments: 2.07 acres, mineral rights, utility easements

Drill Site #4

null

Ford City CA 93268

Landholding Agency: GSA

Property Number: 54201040005

Status: Surplus

GSA Number: 9-B-CA-1673-AB

Comments: 2.21 acres, mineral rights, utility easements

Drill Site #6

null

Ford City CA 93268

Landholding Agency: GSA

Property Number: 54201040006

Status: Surplus

GSA Number: 9-B-CA-1673-AC

Comments: 2.13 acres, mineral rights, utility easements

Drill Site #9

null

Ford City CA 93268

Landholding Agency: GSA

Property Number: 54201040007

Status: Surplus

GSA Number: 9-B-CA-1673-AH

Comments: 2.07 acres, mineral rights, utility easements

Drill Site #20

null

Ford City CA 93268

Landholding Agency: GSA

Property Number: 54201040008

Status: Surplus

GSA Number: 9-B-CA-1673-AD

Comments: 2.07 acres, mineral rights, utility easements

Drill Site #22

null

Ford City CA 93268

Landholding Agency: GSA

Property Number: 54201040009

Status: Surplus

GSA Number: 9-B-CA-1673-AF

Comments: 2.07 acres, mineral rights, utility easements

Drill Site #24

null

Ford City CA 93268

Landholding Agency: GSA

Property Number: 54201040010

Status: Surplus

GSA Number: 9-B-CA-1673-AE

Comments: 2.06 acres, mineral rights, utility easements

Drill Site #26

null

Ford City CA 93268

Landholding Agency: GSA

Property Number: 54201040011

Status: Surplus

GSA Number: 9-B-CA-1673-AA

Comments: 2.07 acres, mineral rights, utility easements

Hawaii

Property Record 1-11032

Naval Station

Pearl Harbor HI 96818

Landholding Agency: Navy

Property Number: 77201040011

Status: Unutilized

Comments: 2.752 acres, harbor sediments/petro pipeline

Unsuitable Properties

Building

Alabama

4 Bldgs.

Anniston Army Depot

Calhoun AL 36201

Landholding Agency: Army

Property Number: 21201040001

Status: Unutilized

Directions: 00051, 0084A, 0084B, 00614

Reasons: Extensive deterioration

Arizona

4 Bldgs.

Fort Huachuca

Cochise AZ 85613

Landholding Agency: Army

Property Number: 21201040002

Status: Excess

Directions: 22009, 22010, 22011, 22012

Reasons: Within 2000 ft. of flammable or explosive material

California

13 Bldgs.

Fort Irwin

San Bernardino CA 92310

Landholding Agency: Army

Property Number: 21201040003

Status: Unutilized

Directions: 100, 338, 343, 385, 411, 412, 413, 486, 489, 490, 491, 493, 5006

Reasons: Secured Area

Colorado

Bldgs. 5510, 6216

Fort Carson

El Paso CO 80913

Landholding Agency: Army

Property Number: 21201040004

Status: Unutilized

Reasons: Secured Area

Hawaii

Bldg. 1000

Wheeler Army Airfield

Wahiawa HI 96786

Landholding Agency: Army

Property Number: 21201040005

Status: Unutilized

Reasons: Extensive deterioration

17 Bldgs.

Schofield Barracks

Wahiawa HI 96786

Landholding Agency: Army

Property Number: 21201040006

Status: Unutilized

Directions: I0011 thru I0027

Reasons: Extensive deterioration

Bldg. 177

Naval Station

Pearl Harbor HI 96860

Landholding Agency: Navy

Property Number: 77201040015

Status: Underutilized

Reasons: Within 2000 ft. of flammable or explosive material, Secured Area

Illinois

Bldg. 1712

Naval Station

Great Lakes IL 60088

Landholding Agency: Navy

Property Number: 77201040012

Status: Unutilized

Reasons: Extensive deterioration

Iowa

Bldgs. A0190, 00190, 01069

Iowa AAP

Middletown IA 52601

Landholding Agency: Army

Property Number: 21201040007

Status: Unutilized

Reasons: Extensive deterioration, Within 2000 ft. of flammable or explosive material, Secured Area

Kansas

19 Toilets

John Redmond Lake

Burlington KS 66839

Landholding Agency: COE

Property Number: 31201040002

Status: Unutilized

Reasons: Extensive deterioration

Maryland

Bldgs. 136, 607

Fort Detrick

Forrest Glen Annex

Silver Spring MD 20901

Landholding Agency: Army

Property Number: 21201040008

Status: Unutilized

Reasons: Secured Area

Bldgs. 1687, 1689

Fort Detrick

Frederick MD 21702

Landholding Agency: Army

Property Number: 21201040009

Status: Unutilized

Reasons: Secured Area

16 Bldgs.

Naval Support Activity

Indian Head MD 20640

Landholding Agency: Navy

Property Number: 77201040014

Status: Underutilized

Directions: 28, 163, 164/164A, 164B, 165, 166, 167, 273, 489, 496, 629, 898, 899, 1738, 1904, 3030

Reasons: Secured Area

Missouri

14 Bldgs.

Lake City AAP

Independence MO 64051

Landholding Agency: Army

Property Number: 21201040010

Status: Unutilized

Directions: 59, 59A, 59B, 59C, 60, 66A, 66B, 66C, 66D, 66E, 67, 70A 70B 80D

Reasons: Within 2000 ft. of flammable or explosive material, Secured Area

10 Bldgs.

Fort Leonard Wood

Pulaski MO 65473

Landholding Agency: Army

Property Number: 21201040011

Status: Unutilized

Directions: 1228, 1255, 1269, 2101, 2112, 2551, 2552, 5280, 5506, 6824

Reasons: Secured Area

Facility 29995

Fort Leonard Wood

Pulaski MO 65473

Landholding Agency: Army

Property Number: 21201040012

Status: Unutilized

Reasons: Secured Area

New Jersey

9 Bldgs.

Picatinny Arsenal

Dover NJ 07806

Landholding Agency: Army

Property Number: 21201040013

Status: Unutilized

Directions: 23, 48, 49, 50, 111, 454B, 620, 620C, 641B

Reasons: Secured Area

6 Bldgs.

Piccatinny Arsenal

Dover NJ 07806

Landholding Agency: Army

Property Number: 21201040014

Status: Unutilized

Directions: 1181, 1182, 1351, 1354A, 1521, 1522

Reasons: Secured Area

4 Bldgs.

Picatinny Arsenal

Dover NJ 07806

Landholding Agency: Army

Property Number: 21201040015

Status: Unutilized

Directions: 3052, 3339, 3340, 3341

Reasons: Secured Area

7 Bldgs.

Picatinny Arsenal

Dover NJ 07806

Landholding Agency: Army

Property Number: 21201040016

Status: Unutilized

Directions: 3604, 3605, 3606, 3609, 3613, 3615, 3627

Reasons: Secured Area

New Mexico

7 Bldgs.

White Sands Missile Range

Dona Ana NM 88002

Landholding Agency: Army

Property Number: 21201040017

Status: Unutilized

Directions: 301, 384, 1529, 1650, 1735, 1798, 1825

Reasons: Extensive deterioration, Secured Area

8 Bldgs.

White Sands Missile Range

Dona Ana NM 88002

Landholding Agency: Army

Property Number: 21201040018

Status: Unutilized

Directions: 19310, 21623, 23638, 23653, 23673, 27104, 34175, FOI

Reasons: Secured Area, Extensive deterioration

New York

Bldg. 110

Fort Hamilton

Brooklyn NY 11252

Landholding Agency: Army

Property Number: 21201040019

Status: Underutilized

Reasons: Secured Area

North Carolina

Bldg. 83022

Fort Bragg

Cumberland NC 28310

Landholding Agency: Army

Property Number: 21201040020

Status: Unutilized

Reasons: Secured Area, Extensive deterioration

North Dakota

Bldgs. 455, 456—Bunkers

Stanley Mickelsen Property

Nekoma ND 58355

Landholding Agency: GSA

Property Number: 54201040014

Status: Surplus

GSA Number: 7-D-ND-0499

Reasons: Secured Area

Oklahoma

3 Gatehouses

Oologah Lake

Oologah OK 74053

Landholding Agency: COE

Property Number: 31201040003

Status: Unutilized

Reasons: Secured Area

2 Vault Toilets

Washington Irving Rec Area

Sand Springs OK 74063

Landholding Agency: COE

Property Number: 31201040004

Status: Unutilized

Reasons: Extensive deterioration

Puerto Rico

7 Bldg.

Fort Buchanan

Guaynabo PR

Landholding Agency: Army

Property Number: 21201040021

Status: Excess

Directions: 76, 83, 84, 85, 86, 87, 98

Reasons: Extensive deterioration, Secured Area

Rhode Island

Bldgs. 0A65V, 340, 382

Camp Fogarty Training Site

Kent RI 02818

Landholding Agency: Army

Property Number: 21201040022

Status: Excess

Reasons: Secured Area

South Carolina

Naval Health Clinic

3600 Rivers Ave.

Charleston SC 29405

Landholding Agency: GSA

Property Number: 54201040013

Status: Excess

GSA Number: 4-N-SC-0606

Reasons: Within 2000 ft. of flammable or explosive material

Tennessee

8 Bldgs.

Fort Campbell

Montgomery TN 42223

Landholding Agency: Army

Property Number: 21201040023

Status: Unutilized

Directions: 1595, 2310, 2607, 3207, 3208, 3209, 3210, 3218

Reasons: Secured Area

9 Bldgs.

Fort Campbell

Montgomery TN 42223

Landholding Agency: Army

Property Number: 21201040024

Status: Unutilized

Directions: 6817, 6818, 6819, 6824, 6847, 6849, 6850, 6898, 6899

Reasons: Secured Area

7 Bldgs.

Fort Campbell

Montgomery TN 42223

Landholding Agency: Army

Property Number: 21201040025

Status: Unutilized

Directions: 7005, 7006, 7051, 7202, 7814, 8064, MM001

Reasons: Secured Area

4 Bldgs.

Milan AAP

Gibson TN 38358

Landholding Agency: Army

Property Number: 21201040026

Status: Excess

Directions: W001A, W0062, W0063, W0064

Reasons: Extensive deterioration, Secured Area, Within 2000 ft. of flammable or explosive material

Texas

4 Bldgs.

Fort Bliss

El Paso TX 79916

Landholding Agency: Army

Property Number: 21201040027

Status: Unutilized

Directions: 1273, 1274, 1278, 1279

Reasons: Extensive deterioration

Utah

Bldgs. 222 thru 227

MTA-L Camp Williams

Eagle Mountain UT 84005

Landholding Agency: Army

Property Number: 21201040028

Status: Unutilized

Reasons: Within 2000 ft. of flammable or explosive material, Secured Area, Extensive deterioration

Bldg. 4535

Deseret Chemical Depot

Stockton UT 84071

Landholding Agency: Army

Property Number: 21201040029

Status: Excess

Reasons: Secured Area

15 Bldgs.

Tooele Army Depot

Tooele UT 84074

Landholding Agency: Army

Property Number: 21201040030

Status: Unutilized

Directions: 25, 25A, 25B, 26, 26A, 26B, 27, 27A, 27B, 28, 28A, 28B, 29, 29A, 29B

Reasons: Secured Area

Virginia

5 Bldgs.

Fort A.P. Hill

Bowling Green VA 22427

Landholding Agency: Army

Property Number: 21201040031

Status: Unutilized

Directions: 1105, 1218, 1274, 1293, 1296

Reasons: Extensive deterioration

Bldg. ANTEN

Fort Eustis

Ft. Eustis VA 23604

Landholding Agency: Army

Property Number: 21201040032

Status: Unutilized

Reasons: Extensive deterioration

Bldgs. 1132, 1133, 1134

Fort Belvoir

Fairfax VA 22060

Landholding Agency: Army

Property Number: 21201040033

Status: Excess

Reasons: Extensive deterioration

Bldg. HH025

Joint Base Myer

Arlington VA 22211

Landholding Agency: Army

Property Number: 21201040034

Status: Unutilized

Reasons: Secured Area

Bldgs. 8000, 8134

Fort Lee

Prince George VA 23801

Landholding Agency: Army

Property Number: 21201040035

Status: Unutilized

Reasons: Secured Area

6 Bldgs.

Radford AAP

Radford VA 24143

Landholding Agency: Army

Property Number: 21201040036

Status: Unutilized

Directions: 1000, 1010, 2000, 2010, 22116, USO43

Reasons: Secured Area, Within 2000 ft. of flammable or explosive material

Property JHK-16643

John H. Kerr Lake & Dam

Mecklenburg VA 23917

Landholding Agency: COE

Property Number: 31201040005

Status: Unutilized

Reasons: Extensive deterioration

Washington

Bldgs. 2607, 2613

Fort Lewis

Pierce WA 98433

Landholding Agency: Army

Property Number: 21201040037

Status: Underutilized

Reasons: Secured Area

Land

Florida

Tract L 1113/Portion

Jim Woodruff Reservoir

Chattahoochee FL 32324

Landholding Agency: COE

Property Number: 31201040001

Status: Unutilized

Reasons: Within 2000 ft. of flammable or explosive material

Maryland

Site A

Naval Support Activity

Indian Head MD 20640

Landholding Agency: Navy

Property Number: 77201040013

Status: Underutilized

Reasons: Secured Area

[FR Doc. 2010-28858 Filed 11-18-10; 8:45 am]

BILLING CODE 4210-67-P